DEPARTMENT OF COMMERCE

National Oceanic and Atmospheric Administration

50 CFR Parts 600 and 660

[Docket No. 001226367-0367-01; I.D. 102201A]

Fisheries off West Coast States and in the Western Pacific; Pacific Coast Groundfish Fishery; Recreational Fishery Closure

AGENCY: National Marine Fisheries Service (NMFS), National Oceanic and Atmospheric Administration (NOAA), Commerce.

ACTION: Fishery closure; request for comments.

SUMMARY: NMFS announces closure of the recreational fishery for rockfish and lingcod in Federal waters (3-200 nautical miles offshore) south of 40°10′ N lat. and seaward of the 20-fathom (36.9-m) depth contour off the coast of California from October 29 through December 31, 2001. This action, which is authorized by the Pacific Coast Groundfish Fishery Management Plan (FMP) and its implementing regulations, is intended to protect overfished species.

DATES: Changes to management measures are effective 0001 hours local time (l.t.) October 29, 2001, through 1159 hours l.t. December 31, 2001, unless modified, superseded, or rescinded. Comments on this rule will be accepted through November 14, 2001.

ADDRESSES: Submit comments to D. Robert Lohn, Administrator, Northwest Region, NMFS, 7600 Sand Point Way NE, Seattle, WA 98115-0070; or Rod McInnis, Acting Administrator, Southwest Region, NMFS, 501 West Ocean Blvd., Suite 4200, Long Beach, CA 90802-4213.

FOR FURTHER INFORMATION CONTACT: Yvonne deReynier or Jamie Goen, Northwest Region, NMFS, 206-526-6140.

SUPPLEMENTARY INFORMATION:

Electronic Access

This Federal Register document is available on the Government Printing Office’s Web site at http://www.access.gpo.gov/su_docs/aces/aces140.html.

Background

The Pacific Coast Groundfish FMP and its implementing regulations at 50 CFR part 660, subpart G, regulate fishing for 82 species of groundfish off the coasts of Washington, Oregon, and California. Annual groundfish specifications and management measures are initially developed by the Pacific Fishery Management Council (Council), and are implemented by NMFS. The specifications and management measures for the current fishing year (January 1 - December 31, 2001) were published at 66 FR 2338 (January 11, 2001), as amended at 66 FR 10208 (February 14, 2001), at 66 FR 18409 (April 9, 2001), at 66 FR 22467 (May 4, 2001), at 66 FR 28676 (May 24, 2001), at 66 FR 35388 (July 5, 2001), at 66 FR 38162 (July 23, 2001), and 66 FR 50851, (October 5, 2001).

Of the 82 species managed under the FMP, seven have been declared overfished under the Magnuson-Stevens Fishery Conservation and Management Act, including bocaccio and canary rockfish. The Council is developing rebuilding plans for these two species. Both bocaccio and canary rockfish are found primarily on the Continental shelf, and are classified as “shelf” rockfish species. They are caught directly and incidentally in the Pacific Coast groundfish (and non-groundfish) fisheries.

Canary rockfish is the most difficult overfished species to manage as its management places great constraint on managing other groundfish species. Its optimum yield (OY) was reduced from 1,045 mt in 1999 to 200 mt in 2000, and to 93 mt for 2001. From the 93 mt OY, 44 mt are set aside for the coastwide recreational catch, with 26 mt (22 mt south of Cape Mendocino, 40°30′ N lat.) of the 44 mt expected to be taken in the California recreational fisheries for rockfish and lingcod.

Bocaccio is another overfished species of concern in the California recreational fisheries for rockfish and lingcod. The bocaccio rebuilding plan applies to bocaccio occurring off California south of Cape Mendocino (40°30′ N lat.). Bocaccio's 2001 OY for that area is 100 mt, with 52 mt expected to be taken as recreational harvest. Bocaccio north of 40°30′ N lat. are included in the OY for minor shelf rockfish north (70 mt).

At its September 10-14, 2001, meeting in Portland, OR, the Council, in consultation with the State of California, recommended closure of the California recreational fisheries in Federal waters when the preseason estimates for recreational harvest are reached, following anticipated action by the California Fish and Game Commission (Commission) at its October 4-5, 2001, meeting to close California state waters.

Currently, recreational catches of both canary and bocaccio rockfish are projected to have exceeded their preseason estimates, based on estimates from the Marine Recreational Fisheries Statistical Survey (MRFSS) through June and on projections of total annual catch based on MRFSS 1999 and 2000 catch levels. The recreational catch of canary rockfish off of California was at 16 mt of the 22 mt preseason estimate through June 2001 and at 22 mt of the 44 mt preseason estimate coastwide. During the remainder of the year (July - December), the recreational fisheries north of Cape Mendocino are expected to stay within the preseason estimate of canary rockfish in that area (22 mt), but the California recreational fishery south of Cape Mendocino is projected to take another 45 mt of canary rockfish.

Bocaccio recreational catch approached the 52-mt preseason estimate in June, weighing in at 50 mt. If current regulations continue, the projected recreational catch alone of bocaccio could reach 111 mt by the end of 2001. By adding the estimated commercial catch of 30 mt through the end of the year, the total bocaccio catch could total 141 mt, 41 mt over the 100 mt OY.

As a result of projections that recreational harvest of canary rockfish and bocaccio will exceed the annual preseason estimates for these species, at its October 4-5, 2001, meeting in San Diego, CA, the Commission closed the California recreational fisheries for rockfish and lingcod (a co-occurring species) in California state waters from October 29 through December 31, 2001, and requested that NMFS also close Federal waters.

NMFS Actions

NMFS concurs with the Council's and the Commission's recommendations, and hereby announces closure of the recreational fisheries for rockfish and lingcod in Federal waters (3-200 miles offshore) south of 40°10′ N lat. and seaward of the 20-fathom (36.9-m) depth contour off the coast of California from October 29 through December 31, 2001. Fishing for minor nearshore rockfish inside the 20-fathom (36.9 m) depth contour south of 40°10′ N lat. remains open. However, retention of shelf rockfish (including bocaccio and canary rockfish) taken in this area is prohibited. Recreational fishing measures for the areas north of 40°10′ N lat. remain unchanged. (NOTE: The stock assessment areas for groundfish were modified in 2000 such that the ABCs and OYs apply to areas north and south of 40°30′ N lat. (Cape Mendocino) to better align with the trip limit areas and management actions that apply north and south of 40°10′ N lat.)

Accordingly, at 66 FR 2338, January 11, 2001, as subsequently amended, in Section IV, under D. Recreational Fishery, paragraphs (1)(a)(ii), (1)(a)(iii) and (1)(b)(i) are revised to read as follows:

IV. NMFS Actions

D. Recreational Fishery

* * * * *

(1) * * *

(a) * * *

(ii) Seasons. North of 40o10′ N lat., recreational fishing for rockfish is open from January 1 through December 31. South of 40°10′ N latitude and north of Point Conception (34°27′ N lat.), recreational fishing for rockfish is closed from March 1 through April 30. This area is also closed to recreational rockfish fishing from May 1 through June 30 and from October 29 through December 31, except that fishing for minor nearshore rockfish is permitted inside the 20-fathom (36.9-m) depth contour. South of Point Conception (34°27′ N lat.), recreational fishing for rockfish is closed from January 1 through February 28 and from October 29 through December 31., except that fishing for minor nearshore rockfish is permitted inside the 20-fathom (36.9-m) depth contour. Recreational fishing for cowcod is prohibited all year in all areas.

(iii) Bag limits, boat limits, hook limits. North of 40°10′ N lat., when the recreational fishery is open, there is a 2-hook limit per fishing line, and the bag limit is 10 rockfish per day, of which no more than 2 may be bocaccio and no more than 1 may be canary rockfish. South of 40°10′ N lat., in times and areas when the recreational season is open, there is a 2-hook limit per fishing line, and the bag limit is 10 rockfish per day. From October 29 through December 31, retention of shelf rockfish (including bocaccio and canary rockfish) is prohibited south of 40°10′ N lat. Cowcod retention is prohibited coastwide throughout 2001. [Note: California scorpionfish, Scorpaena guttata, are subject to California's 10-fish bag limit per species, but are not counted toward the 10-rockfish bag limit.] Multi-day limits are authorized by a valid permit issued by California and must not exceed the daily limit multiplied by the number of days in the fishing trip.

* * * * *

(1) * * *

(b) * * *

(i) Seasons. South of 40°10′ N lat. and north of Point Conception (34°27′ N lat.), recreational fishing for lingcod is closed from March 1 through June 30 and from October 29 through December 31. South of Point Conception (34°27′ N lat.), recreational fishing for lingcod is closed from January 1 through February 28 and from October 29 through December 31.

Classification

These actions are authorized by the regulations implementing the FMP and the annual specifications and management measures published at 66 FR 2338 (January 11, 2001), as amended at 66 FR 10208 (February 14, 2001), at 66 FR 18409 (April 9, 2001), at 66 FR 22467 (May 4, 2001), at 66 FR 28676 (May 24, 2001), at 66 FR 35388 (July 5, 2001), at 66 FR 38162 (July 23, 2001), and 66 FR 50851, (October 5, 2001) and are based on the most recent data available. The aggregate data upon which this action is based are available for public inspection at the Office of the Administrator, Northwest Region, NMFS (see ADDRESSES) during business hours.

NMFS finds good cause to waive the requirement to provide prior notice and comment on this action pursuant to 5 U.S.C. 553(b)(B), because providing prior notice and opportunity for comment would be impracticable. It would be impracticable because this action is necessary to protect overfished species that are managed under Council-approved rebuilding plans, and affording additional advance notice would reduce the agency’s ability to protect those overfished species in a timely manner.

This action is taken under the authority of 50 CFR 660.323 (b)(2), and is exempt from review under Executive Order 12866.

Authority: 16 U.S.C. 1801 et seq.

Dated: October 25, 2001.
Bruce C. Morehead,
Acting Director, Office of Sustainable Fisheries, National Marine Fisheries Service.

[FR Doc. 01-27274 Filed 10-25-01; 3:14 pm]

BILLING CODE 3510-22-S